DEPARTMENT OF JUSTICE

Notice of Lodging of Consent Decree Pursuant to the Comprehensive Environmental Response, Compensation and Liability Act

In accordance with Departmental policy, 28 CFR § 50.7, 38 FR 19029, and 42 U.S.C. 9622(d), notice is hereby given that on September 6, 2000, a proposed consent decree in United States v. Alcoa, Inc. et al., Civil Action No. 83-CV-1623 (N.D.N.Y.), was lodged with the United States District Court for the Northern District of New York. The proposed consent decree resolves the claims of the United States against Alcoa, Inc. (“Alcoa”) and twenty-one other potentially responsible parties listed below (“collectively the Settling Parties”) at the York Oil Superfund Site located in Moira, New York (“Site”), under the Comprehensive Environmental Response, Compensation, and Liability Act (“CERCLA”), 42 U.S.C. 9601 et seq. Pursuant to the proposed settlement, the Settling Parties shall reimburse the United States for certain past and future response costs; implement the remedial measures, including any contingent remedies, selected in the Record of Decision for the Second Operable Unit at the Site. The consent decree includes a covenant not to sue by the United States under Sections 106 and 107 of CERCLA, 42 U.S.C. 9606 and 9607, and under section 7003 of the Resource Conservation and Recovery Act (“RCRA”), 42 U.S.C. 6973. The total value of the settlement is estimated at approximately $4.4-7.5 million, depending upon whether the contingent remedy is implemented at the Site.

The Department of Justice will receive for a period of thirty (30) days from the date of this publication comments relating to the proposed consent decree. Comments should be addressed to the Assistant Attorney General of the Environment and Natural Resources Division, Department of Justice, P.O. Box 7611, Ben Franklin Station, Washington, DC 20044, and should refer to United States v. Alcoa, Civil Action No. 83-CV-1623 (N.D.N.Y.), D.J. Ref. 90-5-2-1-585/1. Commenters may request an opportunity for a public meeting in the affected area, in accordance with Section 7003(d) of RCRA, 42 U.S.C. 6973(d).

The proposed consent decree may be examined at EPA Region II, Office of the Environmental Protection Agency, 290 Broadway, New York, New York 10007-1866. A copy of the consent decree may also be obtained in person or by mail (without attachments) from the Department of Justice Consent Decree Library, 13th floor, 1425 New York Avenue, NW, Washington, DC 20005. In requesting a copy of the consent decree (without attachments), please enclose a check in the amount of $27.00 (25 cents per page reproduction cost) payable to the Consent Decree Library.

Bruce Gelber,
Deputy Chief, Environmental Enforcement Section, Environment and Natural Resources Division.

[FR Doc. 00-25717 Filed 10-5-00; 8:45 am]

BILLING CODE 4410-15-M